DEPARTMENT OF THE INTERIOR

Bureau of Land Management

[BLM_HQ_FRN_MO4500174493]

Notice of Availability of the Draft Resource Management Plan Amendment and Environmental Impact Statement for Greater Sage-Grouse Rangewide Planning

AGENCY: Bureau of Land Management, Interior.

ACTION: Notice of availability.

SUMMARY: In compliance with the National Environmental Policy Act of 1969, as amended (NEPA), and the Federal Land Policy and Management Act of 1976, as amended, the Bureau of Land Management (BLM) has prepared a Draft Resource Management Plan Amendment (RMPA) and Draft Environmental Impact Statement (EIS) for Greater Sage-Grouse Rangewide Planning and by this notice is providing information announcing the opening of the comment period on the Draft RMPA/EIS and on the BLM's consideration of potential areas of critical environmental concern (ACECs).

DATES: This notice announces the opening of a 90-day comment period for the Draft RMPA/EIS beginning with the date following the Environmental Protection Agency's (EPA) publication of its Notice of Availability (NOA) in the Federal Register. The EPA usually publishes its NOAs on Fridays.

To afford the BLM the opportunity to consider comments in the Proposed RMPA/Final EIS, please ensure your comments are received prior to the close of the 90-day comment period or 15 days after the last public meeting, whichever is later.

This notice also announces the opening of a 60-day comment period for ACECs. The BLM must receive your ACEC-related comments by May 14, 2024.

The BLM will hold two virtual public meetings and 11 in-person public meetings throughout the planning area. The specific dates and locations of these meetings will be announced at least 15 days in advance through the ePlanning page (see ADDRESSES) and media releases.

ADDRESSES: The Draft RMPA/EIS is available for review on the BLM ePlanning project website at https://eplanning.blm.gov/eplanning-ui/project/2016719/510.

Written comments related to the Greater Sage-Grouse Rangewide RMPA may be submitted by any of the following methods:

• Website: electronically via the BLM ePlanning website at https://eplanning.blm.gov/eplanning-ui/project/2016719/510.

• Email: BLM_HQ_GRSG_Planning.

• Mail: BLM Utah State Office, ATTN: HQ GRSG RMPA, 440 West 200 South #500, Salt Lake City, UT 84101.

Documents pertinent to this proposal may be examined online at https://eplanning.blm.gov/eplanning-ui/project/2016719/510 and at the BLM State Offices in California, Colorado, Idaho, Montana, Nevada, Oregon, Utah and Wyoming.

FOR FURTHER INFORMATION CONTACT: Pat Deibert, BLM National Sage-Grouse Conservation Coordinator; telephone: 720-447-8107; address: 5353 Yellowstone Road, Cheyenne, WY 82009; email: BLM_HQ_GRSG_Planning@blm.gov. Individuals in the United States who are deaf, deafblind, hard of hearing, or have a speech disability may dial 711 (TTY, TDD, or TeleBraille) to access telecommunications relay services for contacting Ms. Deibert. Individuals outside the United States should use the relay services offered within their country to make international calls to the point-of-contact in the United States.

SUPPLEMENTARY INFORMATION: This document provides notice that the BLM has prepared a Draft RMPA/EIS, provides information announcing the opening of the comment period on the Draft RMPA/EIS, and announces the comment period on the BLM's consideration of potential ACECs. The RMPA would change the following 77 BLM land use plans, collectively referred to in this document as resource management plans (RMPs), across 10 Western States. The original completion date for each plan is noted in parentheses and could include later amendments or maintenance actions.

California

• Altura RMP (2008)

• Eagle Lake RMP (2008)

• Surprise RMP (2008)

Colorado

• Colorado River Valley RMP (2015), including Roan Plateau RMPA (2016)

• Grand Junction RMP (2015)

• Kremmling RMP (2015)

• Little Snake RMP (2011)

• White River RMP (1997) and associated amendments, including the White River Oil and Gas Amendment (2015)

Idaho

• Bennett Hills/Timmerman Hills Management Framework Plan (MFP) (1980)

• Big Desert MFP (1981)

• Big Lost MFP (1983)

• Bruneau MFP (1983)

• Cassia RMP (1985)

• Challis RMP (1999)

• Craters of the Moon National Monument RMP (2006)

• Four Rivers RMP (2023)

• Jarbidge RMP (2015)

• Lemhi RMP (1987)

• Little Lost-Birch Creek MFP (1981)

• Magic MFP (1975)

• Medicine Lodge MFP (1981)

• Monument RMP (1985)

• Owyhee RMP (1999)

• Pocatello RMP (2012)

• Snake River Birds of Prey National Conservation Area RMP (2008)

• Sun Valley MFP (1981)

• Twin Falls MFP (1982)

Montana/Dakotas

• Billings and Pompeys Pillar Nation Monument RMP (2015)

• Butte RMP (2009)

• Dillon RMP (2006)

• HiLine RMP (2015)

• Lewistown RMP (2021)

• Miles City RMP (2015)

• North Dakota RMP (1988)

• South Dakota RMP (2015)

• Upper Missouri River Breaks National Monument RMP (2008)

Nevada

• Black Rock Desert-High Rock Canyon Emigrant Trails National Conservation Area RMP (2004)

• Carson City Field Office Consolidated RMP (2001)

• Elko RMP (1987)

• Ely RMP (2008)

• Shoshone-Eureka RMP (1986)

• Tonopah RMP (1997)

• Wells RMP (1985)

• Winnemucca District RMP (2015)

Oregon

• Andrews RMP (2005)

• Baker RMP (1989)

• Brothers/La Pine RMP (1989)

• Lakeview RMP (2003)

• Southeastern Oregon RMP (2002)

• Steens Mountain Cooperative Management and Protection Area RMP (2005)

• Three Rivers RMP (1992)

• Upper Deschutes RMP (2005)

Utah

• Vernal RMP (2008)

• Price RMP (2008)

• Richfield RMP (2008)

• Kanab RMP (2008)

• Kanab/Escalante Planning Area RMP (2020)

• Grand Staircase-Escalante National Monument—Grand Staircase Unit RMP (2020)

• Cedar/Beaver/Garfield/Antimony RMP (1986)

• Pinyon MFP (1978)

• Warm Springs RMP (1987)

• House Range RMP (1987)

• Pony Express RMP (1990)

• Box Elder RMP (1986)

• Randolph MFP (1980)

• Park City MFP (1975)

• Salt Lake District Isolated Tracts Planning Analysis (1985)

Wyoming

• Buffalo RMP (2015)

• Casper RMP (2007)

• Cody RMP (2015)

• Kemmerer RMP (2010)

• Lander RMP (2014)

• Newcastle RMP (2000)

• Pinedale RMP (2008)

• Rawlins RMP (2008)

• Green River RMP (1997)

• Worland RMP (2015)

The planning area includes portions of 10 Western States with greater sage-grouse (GRSG) habitat: California, Colorado, Idaho, Montana, Nevada, North Dakota, Oregon, South Dakota, Utah, and Wyoming, and encompasses nearly 121 million acres of BLM-administered public lands. Because this effort is focused on GRSG habitat management, decisions resulting from this amendment effort could affect up to 69 million acres of BLM-administered lands associated with the applicable GRSG habitat management areas. No decisions are being made on National Forest System lands or the underlying Federal mineral estate as part of this process.

The 2015 GRSG RMPA amended or revised RMPs in the planning area to provide for GRSG conservation on public lands. In the 2019 GRSG RMPAs, the BLM amended some of the 2015 GRSG plan decisions in the States of California, Colorado, Idaho, Nevada, Oregon, Utah, and Wyoming. On October 16, 2019, the United States District Court for the District of Idaho preliminarily enjoined the BLM from implementing the 2019 GRSG RMPAs (Case No. 1:16-CV-83-BLW).

The amount and condition of GRSG habitat supports the GRSG populations that State wildlife agencies manage. Recent data suggests a continued long-term decline in sagebrush habitats and GRSG populations across the species range. Habitat and population trends vary across the range, with wildfire being a larger problem in the Great Basin States and human development being the primary issue in the Rocky Mountain States. Regardless of the cause, continued habitat loss results in smaller patches available for GRSG use, which can concentrate impacts to birds. Approximately half the remaining GRSG habitat is managed by the BLM. The BLM is considering specific changes to some GRSG RMP decisions across the species range to improve conservation and management of GRSG habitats consistent with the BLM's sensitive species policy and in coordination with State wildlife agencies.

On November 22, 2021, the BLM published a notice of intent in the Federal Register to initiate the public scoping period for this planning effort (86 FR 66331). The BLM hosted two virtual public scoping meetings aimed at providing information on the planning effort, identifying the scope of issues to be addressed in the RMPA, gathering input to assist in formulating a reasonable range of alternatives, and soliciting information on potential ACECs to consider. The resource concerns identified during the scoping process included GRSG habitat, mineral development, renewable energy development, livestock grazing management, wild horses and burros, ACECs, lands and realty, air resources, soil resources, and social and economic conditions.

Purpose and Need

The BLM's GRSG habitat conservation efforts rely on implementing management actions that avoid, minimize, or, if necessary, compensate for land uses and other threats that reduce the amount and quality of GRSG habitat. Many actions from the 2015 and 2019 RMPAs already accomplish this. As a result, the BLM's purpose and need is to consider amending RMPs to address a sub-set of GRSG management actions on BLM-administered lands to respond to changing land uses in GRSG habitats, improve the efficiency and effectiveness of GRSG management, provide for consistent conservation across state lines, and provide the BLM with locally relevant decisions that accord with range-wide GRSG conservation goals. To this end, the BLM is focusing on the following rangewide management actions:

• Clarify the GRSG RMP goal;

• GRSG habitat management area alignment (i.e., to incorporate new science and improve alignment along state boundaries) and the major land use allocations therein, including criteria-based management for non-habitat within the habitat management areas;

• Mitigation;

• GRSG habitat objectives;

• Disturbance cap;

• Fluid mineral development and leasing objective;

• Fluid mineral leasing waivers, exceptions, and modifications;

• Renewable energy development and associated transmission;

• Minimizing threats from predation;

• Livestock grazing;

• Wild horse and burro management;

• Areas of Critical Environmental Concern; and

• Adaptive Management.

Some management concerns are localized to circumstances in individual States and are influenced by the ecological diversity of the sagebrush system. As such, the purpose of this planning effort also includes amending specific RMP management actions associated with State-specific circumstances to improve GRSG habitat conservation.

Changes to RMPs may be needed to:

• Address the continued GRSG habitat losses that are contributing to declines in GRSG populations;

• Ensure habitat management areas and associated management incorporate recent relevant science to prioritize management where it will provide conservation benefit (including providing for durable planning decisions when considering the effects of climate change);

• Provide continuity in managing GRSG habitats based on biological information versus political boundaries, where appropriate, while allowing for management flexibility to address different strategies in identifying habitat management areas with state agencies, as well as local habitat variability; and

• Refine and clarify other aspects of RMPs.

Alternatives Including the Preferred Alternative

The BLM has analyzed six alternatives in detail, including the no action alternative.

Alternative 1 includes the applicable elements of the 2015 GRSG amendment efforts related to the management actions noted in the purpose and need. Under Alternative 1 the BLM would re-adopt the applicable GRSG habitat management area boundaries and the associated management. The existing language in the plans from the 2019 effort would revert to that contained in the 2015 amendments (as maintained). Due to the U.S. District Court of Idaho's preliminary injunction preventing implementation of the 2019 amendments, this alternative reflects how the BLM is currently managing GRSG habitat on public lands. There is variability across the different States regarding approaches for the management actions mentioned in the purpose. While the States have similar concepts in their RMPs (e.g., disturbance cap, adaptive management, livestock grazing), the application details vary. The Sagebrush Focal Areas (SFA) identified in the 2015 RMPA would continue under this Alternative.

Alternative 2 is the applicable RMP goals, objectives, and management decisions from the 2019 GRSG amendment efforts. For RMPs in Montana and North and South Dakota, Alternative 2 is the same as Alternative 1 because those RMPs were not amended in 2019. Because this alternative reflects the management currently in the BLM's approved RMPs it is the No-Action Alternative. The U.S. District Court for the District of Idaho has issued a preliminary injunction, preventing the BLM from implementing the 2019 amendments but not vacating them or their Records of Decision. As such, Alternative 2 represents the actual language in the BLM's RMPs and are the words in the existing plan that the BLM would be amending. While major land uses are similar to Alternative 1, the differences between the States for specific management concepts increased. For example, there is more diversity between the States regarding mitigation (required vs. voluntary, net gain vs. no net loss), as well as the potential to use compensatory mitigation instead of avoiding disturbances, and increased flexibility to consider exceptions based on local information. Under Alternative 2, the SFAs would be removed in all States except Montana and Oregon.

It is important to note that the alternatives are limited to just those goals, objectives, or decisions associated with the list of rangewide management actions in the purpose above, as well as those associated with applicable State-specific circumstances. Any other goal, objective, or decision from the 2015 or 2019 RMPAs are not being considered for amendment and would remain in the plans regardless of the decision ultimately made in this effort.

Alternative 3 provides the greatest measures to protect and preserve GRSG and its habitat. Alternative 3 would update the habitat management area boundaries based on new information and science, however all habitat management areas would be managed as priority habitat management area (PHMA), with general, important, or other habitat management areas under other alternatives being managed as PHMA. The BLM would close PHMA to new fluid mineral leasing, saleable minerals/mineral materials permits, and nonenergy leasable minerals leasing. PHMA would be recommended for withdrawal from location and entry under the Mining Law of 1872 and would be unavailable for livestock grazing. PHMA would also be right-of-way exclusion area. In addition, Alternative 3 would include designation of 11,139,472 acres of PHMA as ACECs specific to the management of GRSG, with management described below. No areas would be identified as an SFA.

Alternative 4 adjusts GRSG habitat management areas based on new information and science available since the previous efforts. Many of the management actions to avoid or minimize impacts would be similar Alternatives 1 and 2, but the habitat management areas where they are applied would be updated to reflect the new science. One difference is in Wyoming, where under Alternative 4, all PHMA would be managed with no surface occupancy requirements for new oil and gas leases. In addition, management associated with some of the major minimization measures (e.g., disturbance cap, adaptive management) would be adjusted to address cross-boundary coordination of shared populations, range-wide biological and managerial concerns based on monitoring, and experience gained from implementing management for GRSG since 2015. Alternative 4 allows compensatory mitigation to be used under specific conditions in considering the potential for exceptions, but would require functional habitat to be in place prior to granting the exception. Areas previously identified as an SFA are managed as PHMA. The primary difference between management of an SFA in the 2015 Plans and PHMAs in this planning effort is that PHMA would not include a recommendation for withdrawal or prioritization strategies.

Alternative 5 considers alignments of habitat management areas and associated management to balance GRSG conservation with public land uses. If State governments updated the GRSG habitat management area boundaries in their State plans, those boundaries are considered on public lands in Alternative 5. Because of this, the habitat management areas are similar to, but refined from, Alternative 4, and restrictions would generally be similar to Alternative 4, except for oil and gas in Wyoming which is similar to Alternative 2. and some additional flexibilities provided for development of gravel pits for counties to use in maintaining local roads. In general, Alternative 5 considered options with fewer restrictions on resource uses and provided more opportunities for considering compensatory mitigation to reduce impacts on GRSG and its habitat. Areas previously identified as an SFA are managed as PHMA. The primary difference between management of an SFA in the 2015 Plans and PHMAs in this planning effort is that PHMA would not include a recommendation for withdrawal or prioritization strategies.

Alternative 6 is based on Alternative 5, with all the habitat management areas and associated management being the same as described for Alternative 5, but with the addition of ACECs. While Alternative 6 would include designation of 11,139,472 acres of PHMA as ACECs specific to the management of GRSG (same as Alternative 3), the management (described below) would be less restrictive than that considered in Alternative 3, though generally more restrictive than the rest of Alternative 6 PHMA.

The BLM has identified Alternative 5 as the preferred alternative. Alternative 5 provides a mix of conservation that avoids and minimizes impacts to GRSG habitat while providing local managers the ability to consider site-specific conditions in applying GRSG habitat conservation.

Mitigation

The alternatives consider a variety of approaches to mitigation for GRSG, all focused on avoiding, minimizing, or compensating for impacts. For Alternative 1, mitigation in most States is required to achieve a net conservation gain for surface disturbances in PHMA. Under Alternative 2, most States adopted a no net loss requirement, but provided that compensatory mitigation would be voluntary. Under Alternatives 3, 4, 5, and 6, mitigation would be required to achieve a no net loss standard in PHMA. However, under Alternative 3, the primary approach would be avoiding new disturbances. Alternative 4, 5, and 6 would provide a broader balance by avoiding major disturbances, but providing for some land uses where they would minimize their impact (in location and/or intensity) and compensate for residual impacts to achieve no net loss of habitat value—considering both direct and indirect impacts. In achieving the no net loss standard, the BLM would work with the States to apply the tools that work best in those areas to achieve the desired mitigation outcome.

ACECs

Consistent with land use planning regulations at 43 CFR 1610.7-2(b), the BLM is announcing the opening of a 60-day comment period on the ACECs analyzed in the EIS. Comments may be submitted using any of the methods listed in the ADDRESSES section earlier.

There are no new proposed ACECs included in the preferred alternative. Existing and nominated ACECs with relevant and important values unrelated to GRSG habitat are outside the scope of the purpose and need. Existing ACECs with relevant and important values related to GRSG are unchanged by this effort, with the exception of 15 key Research Natural Areas (RNAs) in Oregon. RNAs are a type of ACEC. This effort does not change the key RNA boundaries but does consider alternatives to availability for livestock grazing. Of the 60,362 acres across the 15 key RNAs in Oregon, the alternatives consider the following acreage as unavailable for livestock grazing: Alternative 1: 35,803, Alternative 2: 13,872, Alternative 3: 59,532, Alternative 4: 36,416, Alternative 5: 18,680, Alternative 6: 18,680.

The preferred alternative would not propose the following potential ACECs with GRSG relevant and important values for designation: Case Flats (Colorado), Triangle (Idaho), Owyhee-Shoshone Basin (Idaho), Camas-Laidlaw (Idaho), Big Desert (Idaho), Antelope Valley (Idaho), Mountain Valley Complex (Idaho), Upper Snake Complex (Idaho), Carter Crook GRSG Connectivity (Montana), South Valley Phillips GRSG Habitat (Montana), Warm Springs (Nevada), Montana Mountains (Nevada), Owyhee West (Nevada), Owyhee East (Nevada), North Fork Oneil (Nevada), South Fork Dixie Flats (Nevada), Butte Long Valley (Nevada), Eureka North and South (Nevada), Grass-Kobeh Valley (Nevada), Monitor Valley (Nevada), Reese River (Nevada), Hayes Canyon (Nevada), Utah and Idaho Boarder Connectivity (Nevada), Buffalo Skedaddle (California), Vya/Massacre (California), Rich GRSG Habitat (Utah), Box Elder GRSG Habitat (Utah), Little Sandy (Wyoming), Carter-Cook GRSG Connectivity (Wyoming), Sagebrush Focal Areas in South-Central and Southwestern Wyoming (Wyoming), Greater South Pass and Upper Green River Basin GRSG (Wyoming). These areas (11,139,472 acres) would be designated ACECs under Alternatives 3 and 6. Under Alternative 3 they would be managed as closed to new fluid mineral leasing, closed to saleable mineral disposal, closed to non-energy mineral leasing, excluded for major rights-of-way, excluded for wind and solar development, and recommended for withdrawal from mineral location. Under Alternative 6, they would be available for new fluid mineral leasing with no surface occupancy allowed, closed to non-energy mineral leasing, closed to saleable minerals except for free-use pits (for local road maintenance), not recommended for withdrawal from mineral location, excluded to major rights-of-way unless located in RMP designated corridors, and excluded from wind and solar development, as well as not allowing exceptions to the disturbance cap otherwise available in PHMA under Alternative 6.

Schedule for the Decision-Making Process

The BLM will provide additional opportunities for public participation consistent with the NEPA and land use planning processes, including a 30-day public protest period and a 60-day Governor's consistency review on the Proposed RMPA. The Proposed RMPA/Final EIS is anticipated to be available for public protest in the fall of 2024 with an Approved RMPA and Record of Decision in winter 2024.

The BLM will hold two virtual public meetings and 11 in-person public meetings associated throughout the planning area. The specific dates and locations of these meetings will be announced at least 15 days in advance through the ePlanning page (see ADDRESSES) and media releases.

The BLM will continue to consult with Indian Tribal Nations on a government-to-government basis in accordance with Executive Order 13175, BLM MS 1780, and other Departmental policies. Tribal concerns, including impacts on Indian trust assets and potential impacts to cultural resources, will be given due consideration. Consultation will continue on an induvial basis with individual Tribes.

Comments on the Draft EIS would be most helpful if associated with the level of decision making presented in the alternatives. As described in 43 CFR 1601.0-5(n), an RMP is not a final implementation decision on actions that require further specific plans, process steps, or decisions under specific provisions of law and regulations. Additional decision making and analyses will occur when considering individual project authorizations, where local conditions and management will be taken into account.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Sharif Branham,
Assistant Director for Resources and Planning.

[FR Doc. 2024-05508 Filed 3-14-24; 8:45 am]

BILLING CODE 4331-27-P